DEPARTMENT OF DEFENSE

Office of the Secretary

Renewal of Department of Defense Federal Advisory Committees

AGENCY: DoD.

ACTION: Renewal of Federal Advisory Committee.

SUMMARY: Under the provisions of 10 U.S.C. 2166(e), the Federal Advisory Committee Act of 1972 (5 U.S.C. Appendix), the Government in the Sunshine Act of 1976 (5 U.S.C. 552b), and 41 CFR 102-3.50(a), the Department of Defense gives notice that it is renewing the charter for the United States Strategic Command Strategic Advisory Group (hereafter referred to as “the Group”).

The Group shall provide independent advice and recommendations related to U.S. Strategic Command and its operations.

The Group shall report to the Secretary of Defense, through the Chairman, Joint Chiefs of Staff and the Commander of the U.S. Strategic Command. The Chairman of the Joint Chiefs of Staff may act upon the Group's advice and recommendations. The Group shall be composed of not more than 50 members who are eminent authorities in the fields of strategic policy formulation, nuclear weapon design and national command, control, communications, intelligence and information operations, or other important aspects of the Nation's strategic forces.

All Group members shall be appointed by the Secretary of Defense and all member appointments require annual renewal by the Secretary of Defense. The Secretary of Defense may approve the appointments of Group members for four year terms of service; however, no member, unless authorized by the Secretary of Defense, may serve more than two consecutive terms of service. This same term of service limitation also applies to any DoD authorized subcommittees. Group members appointed by the Secretary of Defense, who are not full-time or permanent part-time federal officers or employees, shall be appointed under the authority of 5 U.S.C. 3109, and serve as special government employees. In addition, all Group members, with the exception of travel and per diem for official travel, shall serve without compensation. Each Group member is appointed to provide advice on behalf of the government on the basis of his or her best judgment without representing any particular point of view and in a manner that is free from conflict of interest.

The Commander of the U.S. Strategic Command shall select the Group's chairperson from the total membership. In addition, the Chairman of the Joint Chiefs of Staff or designated representative may invite other distinguished Government officers to serve as non-voting observers of the Group, and the Chairman of the Joint Chiefs of Staff may appoint consultants with special expertise to assist the Group on an intermittent basis. These consultants and non-voting observers are recommended from the Group membership and a search is conducted for recognized experts with different perspectives pertaining to the specific issue under consideration by the Group. The consultants and non-voting observers are selected by the Commander of the U.S. Strategic Command, and if not full-time or part-time government employees, shall be appointed under the authority of 5 U.S.C. 3109, shall serve as special government employees, and participate in Group deliberations, but have no voting rights whatsoever on the Group or any of its subcommittees, and shall not count toward the Group's total membership.

The Department, when necessary, and consistent with the Group's mission and DoD policies and procedures, may establish subcommittees deemed necessary to support the Group. Establishment of subcommittees will be based upon a written determination, to include terms of reference, by the Secretary of Defense, the Deputy Secretary of Defense, or the Group's sponsor. Such subcommittees shall not work independently of the chartered Group, and shall report all their recommendations and advice to the Group for full deliberation and discussion. Subcommittees have no authority to make decisions on behalf of the chartered Group; nor can any subcommittee or its members update or report directly to the Department of Defense or any Federal officers or employees.

All subcommittee members shall be appointed in the same manner as the Group members; that is, the Secretary of Defense shall appoint subcommittee members even if the member in question is already a Group member. Subcommittee members, with the approval of the Secretary of Defense, may serve a term of service on the subcommittee of four years subject to annual renewals; however, no member shall serve more than two consecutive terms of service on the subcommittee.

Subcommittee members, if not full-time or part-time government employees, shall be appointed to serve as experts and consultants under the authority of 5 U.S.C. 3109, and shall serve as special government employees, whose appointments must be renewed by the Secretary of Defense on an annual basis. With the exception of travel and per diem for official Group related travel, subcommittee members shall serve without compensation.

All subcommittees operate under the provisions of FACA, the Government in the Sunshine Act of 1976 (5 U.S.C. 552b), governing Federal statutes and regulations, and governing DoD policies/procedures.

FOR FURTHER INFORMATION CONTACT: Jim Freeman, Deputy Advisory Committee Management Officer for the Department of Defense, 703-692-5952.

SUPPLEMENTARY INFORMATION: The Group shall meet at the call of the Designated Federal Officer, in consultation with the Group's Chairperson. The estimated number of Group meetings is two per year.

In addition, the Designated Federal Officer is required to be in attendance at all Group and subcommittee meetings for the entire duration of each and every meeting; however, in the absence of the Designated Federal Officer, the Alternate Designated Federal Officer shall attend the entire duration of the Group or subcommittee meeting.

Pursuant to 41 CFR 102-3.105(j) and 102-3.140, the public or interested organizations may submit written statements to the Group membership about the Group's mission and functions. Written statements may be submitted at any time or in response to the stated agenda of planned meeting of the Group.

All written statements shall be submitted to the Designated Federal Officer, and this individual will ensure that the written statements are provided to the membership for their consideration. Contact information for the Group's Designated Federal Officer can be obtained from the GSA's FACA Database— https://www.fido.gov/facadatabase/public.asp.

The Designated Federal Officer, pursuant to 41 CFR 102-3.150, will announce planned meetings of the Group. The Designated Federal Officer, at that time, may provide additional guidance on the submission of written statements that are in response to the stated agenda for the planned meeting in question.

Dated: June 1, 2012.
Aaron Siegel,
Alternate OSD Federal Register Liaison Officer, Department of Defense.

[FR Doc. 2012-13660 Filed 6-5-12; 8:45 am]

BILLING CODE 5001-06-P